DEPARTMENT OF COMMERCE

National Oceanic and Atmospheric Administration

[I.D.112003B]

Endangered and Threatened Species; Take of Anadromous Fish

AGENCY: National Marine Fisheries Service (NMFS), National Oceanic and Atmospheric Administration, Commerce

ACTION: Notice of decision and availability of decision documents on the issuance of Permit 1347 for incidental takes of endangered species.

SUMMARY: Notice is hereby given that an artificial propagation permit to the Washington Department of Fish and Wildlife (WDFW), the Public Utility District No. 1 of Chelan County (Chelan PUD); and the Public Utility District No. 1 of Douglas County (Douglas PUD), pursuant to section 10(a)(1)(B) of the Endangered Species Act of 1973 (ESA), has been issued and that the decision documents are available upon request.

DATES: Permit 1347 was issued on October 22, 2003, subject to certain conditions set forth therein. Permit 1347 expires on October 22, 2013.

ADDRESSES: Requests for copies of the decision documents or any of the other associated documents should be directed to the Salmon Recovery Division, National Marine Fisheries Service, 525 NE Oregon Street, Suite 510, Portland, OR 97232.

FOR FURTHER INFORMATION CONTACT: Kristine Petersen, Portland, OR, at phone number: (503) 230-5409, e-mail: Kristine.Petersen@noaa.gov

SUPPLEMENTARY INFORMATION: This notice is relevant to the following Evolutionarily Significant Units (ESUs):

Steelhead (Oncorhynchus mykiss): endangered Upper Columbia River.

Chinook salmon (O. tshawytscha): endangered Upper Columbia River spring run.

Notice of receipt of application for the proposed actions was published on October 16, 2001 (66 FR 52567) relative to the WDFW Hatchery Genetic Management Plans, and on June 25, 2002 (67 FR 42755), relative to the three Habitat Conservation Plan agreements. The permit authorizes the WDFW, Chelan PUD, and Douglas PUD, to implement artificial propagation programs for summer chinook salmon, fall chinook salmon, and sockeye salmon. Permit 1347 authorizes activities to carry out the artificial propagation programs in the upper Columbia River. After evaluating the potential effects of this permit on listed salmon and steelhead in the Upper Columbia River ESUs and the environmental consequences, NMFS issued the permit with conditions authorizing incidental takes of the ESA-listed anadromous fish species. NMFS' conditions will ensure that the incidental takes of ESA-listed anadromous fish will not appreciably reduce the likelihood of the survival and recovery of the species in the wild. The permit expires on October 22, 2013.

Dated: December 8, 2003.
Phil Williams,
Chief, Endangered Species Division, Office of Protected Resources, National Marine Fisheries Service.

[FR Doc. 03-30798 Filed 12-11-03; 8:45 am]

BILLING CODE 3510-22-S